OFFICE OF PERSONNEL MANAGEMENT

Excepted Service

AGENCY: Office of Personnel Management.

ACTION: Notice.

SUMMARY: This gives notice of positions placed or revoked under Schedules placed under Schedule C in the excepted service, as required by Civil Service Rule VI, Exceptions from the Competitive Service.

FOR FURTHER INFORMATION CONTACT: Pam Shivery, Director, Washington Service Center, Employment Service (202) 606-1015.

SUPPLEMENTARY INFORMATION: The Office of Personnel Management published its last monthly notice updating appointing authorities established or revoked under the Expected Service provisions of 5 CFR part 213 October 10, 2000 (65 FR 60226). Individual authorities established or revoked under Schedule C between September 1, 2000, and September 30, 2000, appear in the listing below. Future notices will be published on the fourth Tuesday of each month, or as soon as possible thereafter. A consolidated listing of all authorities as of June 30 will also be published.

Schedule C

The following Schedule C authorities were established during September 2000:

Department of Agriculture

Staff Assistant to the Director, Office of Communications. Effective September 12, 2000.

Special Assistant to the Administrator, Agricultural Marketing Service. Effective September 21, 2000.

Staff Assistant to the Confidential Assistant, Office of the Secretary. Effective September 26, 2000.

Staff Assistant to the Administrator, Foreign Agriculture Service. Effective September 26, 2000.

Department of Commerce

Confidential Assistant to the Executive Assistant to the Secretary. Effective September 12, 2000.

Department of Defense

Staff Specialist to the Deputy Under Secretary of Defense (Environmental Secretary). Effective September 7, 2000.

Defense Fellow to the Special Assistant to the Secretary of Defense for White House Liaison. Effective September 20, 2000.

Department of Education

Confidential Assistant to the Senior Advisor to the Secretary. Effective September 7, 2000.

Confidential Assistant to the Assistant Secretary for Legislation and Congressional Affairs. Effective September 12, 2000.

Department of Energy

Special Assistant to the Director, Office of Management and Administration. Effective September 7, 2000.

Director, Office of Nuclear Materials Management Policy to the Director of Policy. Effective September 7, 2000.

Special Assistant to the Deputy Assistant Secretary for Natural Gas and Petroleum Technology. Effective September 28, 2000.

Deputy Director, Office of Scheduling and Advance to the Director, Office of Scheduling and Advance. Effective September 28, 2000.

Department of Housing and Urban Development

Staff Assistant to the Deputy Assistant Secretary for Congressional and Intergovernmental Relations. Effective September 7, 2000.

Special Assistant to the Deputy Assistant Secretary for Congressional Relations, Office of the Assistant Secretary for Congressional Relations. Effective September 12, 2000.

Special Assistant to the Advisor for Management Reform and Operations. Effective September 18, 2000.

Special Assistant to the Director, Office of Executive Scheduling. Effective September 25, 2000.

Security/Advance Coordinator to the Director, Office of Executive Scheduling. Effective September 28, 2000.

Department of Justice

Staff Assistant to the Assistant Attorney General, Criminal Division. Effective September 7, 2000.

Department of State

Special Assistant to the Assistant Secretary for Oceans and International Environmental and Scientific Affairs. Effective September 12, 2000.

Legislative Management Officer to the Assistant Secretary, Bureau of Legislative Affairs. Effective September 25, 2000.

Department of Transportation

Director, Office of Public Affairs to the Administrator, Federal Railroad Administration. Effective September 5, 2000.

Special Assistant to the Associate Director for Media Relations and Special Projects. Effective September 12, 2000.

Special Assistant to the Maritime Administrator. Effective September 20, 2000.

Farm Credit Administration

Congressional and Public Affairs Specialist to the Director, Office of Congressional and Public Affairs. Effective September 25, 2000.

National Endowment for the Humanities

Director of Governmental Affairs to the Chief of Staff. Effective September 19, 2000.

Small Business Administration

Confidential Advisor to the Deputy Administrator. Effective September 25, 2000.

Senior Director of Scheduling and Advance to the Chief of Staff. Effective September 25, 2000.

Associate Director for Field Operations to the Associate Administrator for Field Operations. Effective September 26, 2000.

Authority: 5 U.S.C. 3301 and 3302; E.O. 10577, 3 CFR 1954-1958 Comp., P.218.

Office of Personnel Management.
Janice R. Lachance,
Director.

[FR Doc. 00-27327 Filed 10-24-00; 8:45 am]

BILLING CODE 6325-01-M